DEPARTMENT OF EDUCATION

Safe and Drug-Free Schools and Communities Advisory Committee

AGENCY: Office of Safe and Drug-Free Schools, Department of Education.

ACTION: Notice of open meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend.

DATES: Monday, July 10, 2006.

Time: 2 p.m. Eastern Time.

ADDRESSES: The Committee will meet by telephone conference call.

FOR FURTHER INFORMATION CONTACT: Phyllis Scattergood, Designated Federal Officer: The Safe and Drug-Free Schools and Communities Advisory Committee, Room 3E212, 400 Maryland Avenue, SW., Washington, DC 20202; telephone: (202) 260-0504; e-mail: OSDFSC@ed.gov.

SUPPLEMENTARY INFORMATION: The Committee was established to provide advice to the Secretary on Federal, state and local programs designed to create safe and drug-free schools, and on issues related to crisis planning. The agenda for the July 10th meeting will include activities designed to prepare for an August 21-22, 2006 hearing to be conducted by the Advisory Committee. The activities will include developing an agenda for that hearing, as well as identifying possible participants. The August hearing will focus on issues related to the Safe and Drug-Free Schools and Communities Act State Grants program, as well the collection and use of data to effectively manage youth drug and violence prevention programs. The Safe and Drug-Free Schools and Communities Advisory Committee is giving less than 15 days notice due to scheduling difficulties.

There will not be an opportunity for public comment during this meeting; however, the public may listen to the conference call by calling 866-215-1938, Chairperson: Deborah Price. Individuals who will need accommodations for a disability in order to listen to the meeting may access a TDD line by calling 800-877-8973, Chairperson: Deborah Price.

Request for Written Comments: We invite the public to submit written comments relevant to the overall focus and deliberations of the Advisory Committee. We would like to receive written comments from members of the public no later than April 30, 2007.

ADDRESSES: Submit all comments to the Advisory Committee using one of the following methods: 1. Internet. We encourage the public to submit comments through the Internet to the following address: OSDFSC@ed.gov. 2. Mail. The public may also submit your comments via mail to Phyllis Scattergood, Office of Safe and Drug Free Schools, U.S. Department of Education, 400 Maryland Avenue, SW., Room 3E212, Washington, DC 20202. Due to delays in mail delivery caused by heightened security, please allow adequate time for the mail to be received.

Records are kept of all Committee proceedings and are available for public inspection at the staff office for the Committee from the hours of 9 a.m. to 5 p.m.

Dated: June 23, 2006.
Raymond Simon,
Deputy Secretary, U.S. Department of Education.

[FR Doc. 06-5759 Filed 6-27-06; 8:45 am]

BILLING CODE 4000-01-M